DEPARTMENT OF LABOR

Office of the Secretary

[Secretary's Order 1-2000]

Authority and Responsibilities for Implementation of the Paperwork Reduction Act of 1995 (Pub. L. 104-13) and the Clinger-Cohen Act of 1996 (Information Technology Management Reform Act of 1996) (Division E of Pub. L. 104-106)

1. Purpose. To delegate authority and assign responsibilities for implementation of the Paperwork Reduction Act of 1995 (PRA) and the Clinger-Cohen Act of 1996 (also known as the Information Technology (IT) Management Reform Act of 1996 (ITMRA)), and to formally establish within the Department of Labor (DOL) the position of Chief Information Officer (CIO), the Management Review Council (MRC), and a supporting Technical Review Board (TRB) of DOL Administrative Officers and Information Resource Managers.

2. Background. The PRA of 1995, as well as its predecessor Act of 1980, was enacted to reduce paperwork and enhance the economy and efficiency of the government and the private sector by improving Federal information policy making and management. The Acts required agency heads to designate “senior officials” responsible for carrying out agency responsibilities. Section 5125 of the Clinger-Cohen Act amended the PRA to (a) create the position of agency CIO and (b) assign all PRA duties previously assigned to agency “senior officials” to Federal agency CIOs. The Clinger-Cohen Act also requires the head of each executive agency, in fulfilling responsibilities under section 3506(h) of the PRA [44 U.S.C. 3506(h)], to “design and implement * * * a process for maximizing the value and assessing and managing the risks of the information technology acquisitions of the executive agency.” Under the Clinger-Cohen Act, an agency's CIO must have information resources management (IRM) duties as his or her primary duty. Consistent with the foregoing statutory requirements, this Order establishes the position of CIO and outlines the CIO's responsibilities under the Clinger-Cohen Act and the PRA.

In October, 1996, the Department established a Capital Planning and Investment Board (CPIB) as part of the Department's process under Clinger-Cohen. In April 1998, the Secretary established a Management Review Council (MRC) (also known as the Management Council) within the Department. In November, 1998, the MRC voted to establish a Technical Review Board (TRB). The initial TRB Charter was developed and approved in March 1999 with final adoption on April 12, 1999. The current charter is attached to this Order. (See Attachment 1.) The MRC, TRB, and the process established by this Order replace the CPIB.

3. Authority and Directives Affected. a. Authority. This Order is issued pursuant to sections 5122-5127 of the Clinger-Cohen Act [40 U.S.C. 1422-27]; section 3506 of the PRA [44 U.S.C. 3506]; section 11 of the Electronic Freedom of Information Act Amendments (E-FOIA) [5 U.S.C. 552(g)]; 5 U.S.C. 301; Reorganization Plan Number 6 (1950); and Executive Order 13011.

b. Directives Affected.

(1) Secretary's Order 4-81, which assigned responsibilities and delegated duties under the PRA of 1980, is hereby canceled.

(2) This Order does not affect Secretary's Order 4-76, which assigns procurement and contracting authority to the Assistant Secretary for Administration and Management.

(3) This Order does not affect Secretary's Order 9-89, which creates the Data Integrity Board.

(4) This Order does not affect Secretary's Order 1-92, and 1-97 which established responsibilities for implementation of the Chief Financial Officer's Act of 1990.

(5) Directives inconsistent with this Order are rescinded to the extent of the inconsistency.

4. Creation of Chief Information Officer. In accordance with section 5125 of the Clinger-Cohen Act (40 U.S.C. 1425), the position of Chief Information Officer is established. The CIO shall report directly to the Secretary and Deputy Secretary, have IRM duties as his or her primary duty and shall perform the responsibilities set forth in paragraphs 5 and 6 of this Order.

5. Responsibilities Assigned to the CIO By Applicable Law. a. The CIO shall have the following duty, which is assigned to the CIO by sections 3506(a) of the PRA [44 U.S.C. 3506(a)]: Ensure compliance by all DOL agencies with the prompt, efficient, and effective implementation of the IRM responsibilities and the reduction of information collection burdens on the public.

b. The CIO shall have the following duties, which are assigned to the CIO by sections 5125(b)-(c) of the Clinger-Cohen Act [40 U.S.C. 1425(b)-(c)]:

(1) Provide advice and other assistance to the Secretary of Labor and other senior management personnel of the DOL to ensure that IT is acquired and information resources are managed for the Department in a manner that implements the policies and procedures of the Clinger-Cohen Act, consistent with Chapter 35 of Title 44, United States Code, and the priorities established by the Secretary of Labor. The CIO shall seek the counsel of the Office of the Solicitor before providing advice regarding legal interpretations.

(2) Develop, maintain, and facilitate the implementation of a sound and integrated IT architecture for the DOL including Internet technologies and services.

(3) Promote the effective and efficient design and operation of all major IRM processes for the DOL, including improvements to work processes of the Department.

(4) Monitor the performance of IT programs of the DOL, evaluate the performance of those programs on the basis of the applicable performance measurements, and advise the Secretary of Labor regarding whether to continue, modify, or terminate a program or project.

(5) Ensure that the skills, knowledge, and training provisions of the Clinger-Cohen Act are met. In fulfilling this responsibility, the CIO shall annually, as part of the strategic planning and performance evaluation process required under 5 U.S.C. 306 and 31 U.S.C. 1105(a)(28),¹ 1115, 1116, 1117, and 9703:

¹ The Clinger-Cohen Act references 31 U.S.C. 1105(a)(29). Subsection (a)(29) was renumbered (a)(28) by Public Law 104-287 4(1) (Ocober 11, 1996).

(a) Assess the requirements established for DOL personnel regarding knowledge and skill in IRM and the adequacy of such requirements for facilitating the achievement of the performance goals established for IRM;

(b) Assess the extent to which the positions and personnel at the executive level of the DOL, and the positions and personnel at management levels of the DOL below the executive level, meet those requirements;

(c) Develop strategies and specific plans for hiring, training, and developing professionals, in order to rectify any deficiency in meeting those requirements; and

(d) Report to the Secretary of Labor on the progress made in improving IRM capability.

c. The CIO shall perform any additional duties and responsibilities which are assigned to the CIO by applicable law, including (for example) OMB regulations and circulars.

6. Assignment of Additional Responsibilities to CIO. a. Subject to the Reservation of Authority in paragraph 11 of this Order, the CIO shall have the following duties which are assigned by the PRA and E-FOIA to the Secretary and are hereby delegated to the CIO:

(1) Establish a process, sufficiently independent of DOL program agencies, to evaluate whether proposed collections of information should be approved under the PRA. The independent evaluation shall:

(a) Review the need, function, plan, and burden of each information collection;

(b) Ensure that each information collection is inventoried, displays a control number, and discloses all necessary information, as described at 44 U.S.C. 3506(c)(1)(B); and

(c) Assess the information collection impact of proposed legislation affecting DOL.

(2) Coordinate with DOL agencies to ensure that proposed collections of information covered by section 3506(c)(2)(A) of the PRA [44 U.S.C. 3506(c)(2)(A)] are published in the Federal Register in order to solicit comments from members of the public and affected agencies with regard to each collection, to:

(a) Evaluate whether the proposed collection of information is necessary and has practical utility;

(b) Evaluate the accuracy of the DOL program agency's burden estimate;

(c) Enhance the quality, utility, and clarity of the information collected; and

(d) Minimize the burden of the collection of information.

(3) Coordinate with DOL agencies to ensure that they provide notice and an opportunity to comment specifically on any collections of information contained within notices of proposed rule making published in the Federal Register.

(4) Certify and provide supporting documentation, for each collection of information submitted to the Office of Management and Budget (OMB) for review under 44 U.S.C. 3507, that the DOL program agency has fully complied with all PRA provisions, as described at 44 U.S.C. 3506(c)(3).

(5) Coordinate with DOL agencies to prepare and maintain the following, as required by the PRA and E-FOIA: an index of the DOL's major information systems; a description of the DOL's major information and record locator systems; and a handbook for obtaining various types and categories of public information pursuant to the PRA and E-FOIA.

b. Subject to the Reservation of Authority in paragraph 11 of this Order, the CIO shall have the following duties, which are assigned by the Clinger-Cohen Act to the Secretary and are hereby delegated to the CIO:

(1) Design, implement, and maintain in the DOL a process for maximizing the value and assessing and managing the risks of the IT acquisitions, in accordance with section 5122 of the Clinger-Cohen Act. The process shall:

(a) Provide for the selection of IT investments to be made by the DOL, the management of such investments, and the evaluation of the results of such investments;

(b) Be integrated with the processes for making budget, financial, and program management decisions within the DOL;

(c) Include minimum criteria to be applied in considering whether to undertake a particular investment in information systems, including criteria related to the quantitatively expressed projected net, risk-adjusted return on investment and specific quantitative and qualitative criteria for comparing and prioritizing alternative information systems investment projects;

(d) Provide for identifying information systems investments that would result in shared benefits or costs for other Federal agencies or State or local governments;

(e) Provide for identifying quantifiable measurements for determining the net benefits and risks for a proposed investment; and

(f) Provide the means for senior management personnel of the DOL to obtain timely information regarding the progress of an investment in an information system, including a system of milestones for measuring progress, on an independently verifiable basis, in terms of cost, capability of the system to meet specified requirements, timeliness, and quality.

(2) Institutionalize performance-based and results-based management for information technology in coordination with the Chief Financial Officer (CFO) of the DOL and DOL agencies. In fulfilling this responsibility, the CIO shall:

(a) Establish goals for improving the efficiency and effectiveness of DOL operations and, as appropriate, the delivery of services to the public through the effective use of IT;

(b) Prepare an annual report, as required by statute, to be included in the DOL's budget submission to Congress, on the progress in achieving the IT goals;

(c) Issue DOL policies, directives, and instructions that require DOL agencies to:

1 Prescribe performance measurements for information technology used by, or to be acquired for, the agency that measure how well the IT supports programs of the agency and the DOL as a whole;

2 Benchmark, quantitatively, agency process performance against comparable processes and organizations in the public or private sectors (where such processes or organizations exist) in terms of cost, speed, productivity, and quality of outputs and outcomes; and

3 Analyze individual agency missions in relation to the Department's mission and, based on the analysis, revise the agency's mission-related processes and administrative processes as appropriate before making significant investments in IT that is to be used in support of the performance of those missions.

(d) Ensure that information security policies, procedures, and practices are adequate.

(3) Acquire information technology for the DOL as authorized by law and, in accordance with guidance issued by the Director of the Office of Management and Budget, authorize or enter into contracts that provide for multi-agency acquisitions of information technology.

(4) Identify in the strategic information resources management plan required under 44 U.S.C. 3506(b)(2) any major information technology acquisition program, or any phase or increment of such a program, that has significantly deviated from the cost, performance, or schedule goals established for the program.

c. In addition to the above duties specifically assigned by the Clinger-Cohen Act and PRA, the CIO is hereby delegated the following authority and assigned the following responsibilities, subject to the Reservation of Authority in paragraph 11:

(1) The CIO shall act as the Department's spokesperson on all matters relating to Departmental IT management. The CIO shall report to the Secretary, but may receive day-to-day guidance and direction from the Deputy Secretary.

(2) The CIO shall ensure that the DOL is responsive to the needs of employees who require adaptive technologies.

(3) The CIO shall oversee agency development of IT Strategic Plans that are in alignment with Agency Plans and Agency Budgets.

(4) The CIO shall ensure that Departmental communications and processes make maximum appropriate use of the web technologies and electronic mail.

(5) The CIO shall establish a system for appropriately sharing Departmental and agency directives and communications relating to IT.

(6) Present TRB recommendations, with an evaluation of their merits, to the MRC for disposition. Ensure that MRC decisions are implemented (unless overruled by the Secretary).

(7) The CIO shall perform any other related duties which are assigned by the Secretary.

7. Assignment of Responsibilities to the Chief Financial Officer. The CFO shall have the following duties which are assigned by the Clinger-Cohen Act to the Secretary and are hereby delegated to the CFO: Establish policies and procedures that:

a. Ensure that the accounting, financial, and asset management systems of the DOL are designed, developed, maintained, and used effectively to provide financial or program performance data for financial statements of the Department; and

b. Ensure that financial and related program performance data are provided on a reliable, consistent, and timely basis to DOL financial management systems.

c. Ensure that financial statements support:

(1) Assessments and revisions of mission-related processes and administrative processes of the Department; and

(2) Performance measurement of the performance in the case of investments made by the Department in information systems.

d. In appropriate consultation with the CIO, ensure that the accounting, financial, and asset management systems of the DOL are properly integrated into the DOL IT architecture.

8. Creation of Management Review Council and Assignment of Responsibilities. a. The MRC is established in the following manner:

(1) The Secretary shall determine the membership roster of the MRC. The current roster is attached to this Order as Attachment 2.

(2) The Deputy Secretary shall chair the MRC.

(3) Any absent voting member may authorize his or her deputy to attend MRC meetings or to cast his or her vote by proxy.

(4) The MRC shall maintain an appropriate record, for internal use only, available to MRC members, relating to proposed recommendations under consideration.

b. For purposes of this Order, the MRC shall have the following responsibilities:

(1) Evaluate and either approve, not approve, or approve with conditions TRB recommendations on IT portfolios and initiatives and advise the CIO of the results.

(2) Ensure that MRC decisions and recommendations pertaining to IT investment management deliver substantial business benefit to the Department and/or substantial return-on-investment to the taxpayer.

9. Creation of Technical Review Board and Assignment of Responsibilities. a. The TRB is established in the following manner:

(1) The MRC shall determine the membership roster and charter of the TRB. The most current charter, including the membership roster, shall be affixed to this Order as Attachment 1.

(2) The MRC shall designate the Deputy CIO to chair and manage the TRB.

(3) TRB Board membership may not be delegated. An agency's permanent member may authorize an alternate to attend and participate in the voting process at TRB meetings, contingent upon the written approval of the TRB chair.

(1) Each agency represented on the TRB is allocated one vote. The agencies represented by rotating members also have one collective vote. The TRB may adopt resolutions, including recommendations to the MRC on the disposition of IT investments, by majority vote by participating agencies.

(5) The TRB shall maintain a record, for internal use only, available to TRB members relating to proposed recommendations under consideration.

b. For purposes of this Order, the TRB shall have the following responsibilities:

(1) Review above threshold ² IT initiatives to ensure risks and returns have been adequately and accurately assessed. Reviews of IT initiatives shall include assessments of IT investment:

² Above threshold refers to investment initiatives that are above a designated investment level or that have crosscutting implications or applicability. The amounts are set by the Secretary in consultation with the CIO and MRC.

—Screening information

—Scoring information

—Return-on-investment information

—Cost, schedule, and technical performance information

—IT initiative supporting documentation, including business case, risk assessments, financial information, technical documentation, and project planning documentation.

(2) Develop and provide recommendations to the MRC on the disposition of above threshold IT initiatives, including the selection of new initiatives or continuation of existing IT initiatives.

(3) Develop and provide recommendations to the MRC on Departmental IT architecture management and IT capital planning process improvements.

(4) Develop and provide recommendations to the MRC on agency and Departmental IT investment portfolios.

(5) Create TRB Committees.

(6) Address common IT issues and recommend the resolution of these issues to the CIO and/or MRC.

10. Assignment of Responsibilities to Agency Heads. a. All DOL Agency Heads are assigned responsibility to ensure compliance by their organizations with CIO and OMB PRA guidance and policies.

b. All DOL Agency Heads are assigned responsibility to ensure compliance by their organizations with the Clinger-Cohen Act and DOL IT guidance and policies.

c. All DOL Agency Heads are assigned responsibility to implement Department-wide IT initiatives approved by the MRC and sponsored by the CIO, re-engineer agencies' mission-related processes to maximize return on IT expenditures, and ensure that IT initiatives are managed for successful implementation.

d. The Solicitor of Labor is responsible for providing legal advice and assistance to all officials of the Department who are responsible for activities under the PRA and the Clinger-Cohen Act and under this Order, except as provided in Secretary's Order 2-90 (January 31, 1990) with respect to the Office of the Inspector General.

11. Reservation of Authority. a. The following functions are reserved to the Secretary:

1. The Secretary may override any MRC decisions or recommendations.

2. The Secretary may override any CIO decision made under the authority delegated in paragraph 6 of this Order.

3. The submission of reports and recommendations to the President and Congress concerning the administration of the statutory provisions and Executive Orders listed above is reserved to the Secretary.

b. This Secretary's Order does not affect the authorities or responsibilities of the Office of Inspector General under the Inspector General Act of 1978, as amended, or under Secretary's Order 2-90 (January 31, 1990).

12. Effective Date: This Order is effective immediately.

Dated: July 28, 2000.
Alexis M. Herman,
Secretary of Labor.

Attachment 1—Department of Labor: Technical Review Board Charter, June 2000

Preface

In November 1998, the Department's Management Review Council (MRC) approved the establishment of a two-tiered Information Technology (IT) investment review board structure to conduct Departmental IT investment management. The new structure replaces the Capital Planning and Investment Review Board (CPIB) with the MRC and a Technical Review Board (TRB). The two-tiered investment review board structure is designed to ensure compliance with the Clinger-Cohen Act and the Department's enhanced IT capital planning process. This Charter establishes the mission, objectives, membership, and responsibilities of the TRB. The TRB operating procedures are presented in the Department's IT Capital Investment Management Guide.

Table of Contents

Preface

Mission

Objectives

Membership

Technical Review Board

Temporary Working Groups

Adoption of Technical Review Board Resolutions

Responsibilities

Meeting Protocol

Mission

The Technical Review Board serves as the Department's first tier investment review board for above threshold information technology (IT) investments and as a forum to identify and resolve Department-wide IT-related issues. The TRB makes recommendations on the appropriate disposition of above threshold IT investments to the MRC based on standardized investment review criteria, with a focus on the technical feasibility of the investments. The TRB also serves as a forum to conduct Departmental IT strategic planning, IT architecture management, and IT capital planning process improvements via permanent committees.

Objectives

The objectives of the TRB are to ensure compliance with the IT capital planning provisions of the Clinger-Cohen Act by:

• Conducting IT investment analysis on above-threshold IT investments and recommending the disposition of those IT investments to the MRC;

• Establishing above threshold IT initiative review schedules and monitoring these IT investments throughout the control phase;

• Evaluating fully operational above-threshold ³ IT initiatives by reviewing the results of post-implementation reviews conducted by IT initiative sponsors;

³ Above threshold refers to investment initiatives that are above a designated investment level or that have crosscutting implications or applicability. The amounts are set by the Secretary in consultation with the CIO and the MRC.

• Recommending to the MRC corrective actions for those above-threshold IT initiatives that are not performing in accordance with established cost, schedule, or technical performance parameters;

• Providing recommendations to the MRC on portfolio management;

• Providing input to the CIO and MRC on Departmental IT architecture management planning and IT capital planning process improvement activities;

• Identifying opportunities to minimize duplicate and overlapping information systems across the Department;

• Addressing common IT issues and recommending the resolution of these issues to the MRC.

Membership

The Technical Review Board is comprised of the following members:

Chair: Deputy Chief Information Officer

Vice-Chair: Deputy Assistant Secretary for Information Management, OASAM

Advisors:

Deputy Assistant Secretary for Policy

Associate Commissioner for Technology and Survey Processing, BLS

Deputy Chief Financial Officer or representative

Representative of the Office of the Inspector General

Representative of the Office of the Solicitor

Members: IRM Managers and Administrative Officers from the following agencies:

• Bureau of Labor Statistics

• Employment and Standards Administration

• Employment and Training Administration

• Office of the Assistant Secretary for Administration and Management

• Occupational Safety and Health Administration

• Office of the Chief Financial Officer

• Mine Safety and Health Administration

• Pension and Welfare Benefits Administration

Rotating Members: In addition to the permanent TRB members, there shall be two non-permanent, rotating members of the Board shall be appointed from agencies not represented in the above membership list to represent those agencies. These rotating members shall include the IRM Manager from one agency and the Administrative Officer from another agency. Rotating representation shall be on an annual basis, at which time membership shall rotate to other agencies.

TRB Board membership may not be delegated. An agency's permanent member may authorize an alternate to attend and participate in the voting process at TRB meetings, contingent upon the written approval of the TRB chair.

IRM Managers and Administrative Officers from agencies that are not permanent or rotating members of the TRB may attend TRB meetings as observers.

Technical Review Board Committees

The Technical Review Board shall have two standing committees. Committee membership shall be determined by a majority vote of the TRB. Committee Chairs shall report on committee activities during regular TRB meetings.

A. IT Architecture Committee. Provides IT architecture baseline management, configuration control, standards adoption, and IT architecture migration recommendations to the full TRB. The IT Architecture committee will focus on interoperability issues as they pertain to cross-cutting IT infrastructure issues.

B. IT Capital Planning Committee. Assesses the effectiveness of the Departmental IT capital planning process and provides recommendations to the full TRB for refining and improving the process. Process improvement analysis includes assessments of screening criteria, IT investment criteria; selection, control, and evaluation procedures; IT capital planning process timing issues, Information Technology Investment Portfolio System (I-TIPS), and integration of IT capital planning activities with other major management processes.

Temporary Working Groups

Temporary working groups shall be established by a majority vote of the TRB. The temporary working group chair shall be one of the permanent members of the TRB, but other members on the working group may include Federal and contractor staff who are not on the Board. The establishment of a temporary working group requires the following:

• Assignment of working group chair and members

• Identification of working group scope and objectives

• Identification of working group deliverables and schedules

Adoption of Technical Review Board Resolutions

(1) The Technical Review Board is a consensus-driven body designed to maximize departmental IT investment decision-making through the objective, impartial application of each member's technical and business management expertise.

(2) Technical Review Board resolutions, including recommendations to the MRC on the disposition of IT investments, require a majority vote of participating agencies' representatives. Each agency represented on the TRB is allocated one vote. The agencies represented by rotating members also have one collective vote (resulting in total of nine (9) votes).

(3) Members who do not agree with a resolution adopted by the TRB may present a minority opinion of the TRB decision to the MRC for consideration in the final MRC disposition of TRB recommendations. A standardized minority report format is provided in the IT Capital Investment Management Guide.

(4) Voting shall be recorded in the TRB meeting minutes and provided to the MRC as part of the disposition recommendation.

Responsibilities

A. Management Review Council

(1) Evaluate and either “approve”, “not approve”, or “approve with conditions” TRB recommendations on IT portfolios and initiatives.

(2) Ensure that MRC decisions pertaining to IT investment management deliver substantial business benefit to the Department and/or substantial return-on-investment to the taxpayer.

B. Chief Information Officer

(1) Provide advice and other assistance to the Secretary of Labor and MRC to ensure that information technology is acquired and information resources are managed for the Department consistent with the Clinger-Cohen Act, Departmental missions and objectives, and the Department's IT capital planning process.

(2) Present TRB recommendations with an evaluation of their merit to the MRC for disposition.

(3) Conduct strategic analysis of the Department's IT investment portfolio. Issue Departmental IT strategic planning guidance.

(4) Develop, maintain, and facilitate implementation of a sound and integrated IT architecture for the Department.

(5) Promote the effective and efficient design and operation of all major information management processes for the Department.

C. Deputy Assistant Secretary for Administration and Management

(1) Serve as the TRB Vice Chair.

(2) Serve as the TRB Chair in the absence of the Deputy Chief Information Officer.

(3) Coordinate and confer with the TRB Chair on all matters before the Board.

D. Chief Financial Officer

The OCFO will provide assessments of proposed or enhanced financial systems which address the issues of compliance with government wide standards. Without such certification, the proposed system cannot be considered under TRB rules. The OCFO may ask for technical review by one or more of the TRB committees or working groups to assist in the compliance determination.

E. Deputy Chief Information Officer

(1) Serve as the Chair of the Technical Review Board.

(2) Ensure that the TRB provides comprehensive evaluations of all above threshold IT projects and that the results of these evaluations are presented to the MRC for final disposition.

(3) Ensure that the TRB conducts IT architecture management and IT capital planning process improvement activities.

(4) Ensure that common IT issues are fully addressed and recommended resolution of these issues is provided to the CIO and/or MRC

F. Director, Office of Internet Services and Information Management

(1) Serve as the Executive Secretary for the TRB. Executive Secretary duties include:

—Manage TRB administrative staff support;

—Prepare read-ahead materials and agendas, in consultation with the Chair and membership, for TRB meetings;

—Prepare meeting minutes;

—Post agendas and minutes in the Public Library section of the I-TIPS;

—Oversee and direct all votes taken by the TRB; and

—Support the Chair in preparing for and conducting meetings.

G. Technical Review Board Members

(1) Review above threshold IT initiatives to ensure risks and returns have been adequately and accurately assessed. Reviews of IT initiatives shall include assessments of IT investment:

—Screening information

—Scoring information

—Return-on-investment information

—Cost, schedule, and technical performance information

—IT initiative supporting documentation, including business case, risk assessments, financial information, technical documentation, project planning documentation.

(2) Develop and provide recommendations to the MRC on the disposition of above-threshold IT initiatives, including the selection of new initiatives or continuation of existing IT initiatives.

(3) Develop and provide recommendations to the MRC on Department IT architecture management and IT capital planning process improvements.

(4) Develop and provide recommendations to the MRC on agency and Departmental IT investment portfolios.

(5) Participate as members on TRB committees.

(6) Address common IT issues and recommend the resolution of these issues to the CIO and/or MRC.

H. Technical Review Board Advisors

Provide advice to the TRB Chair and Vice Chair on matters before the TRB.

Meeting Protocol

(1) The TRB meets on a monthly basis, with additional or special meetings called by the Chair, as necessary.

(2) At least one TRB member from a majority of TRB member agencies must be present to adopt a TRB resolution.

(3) The Executive Secretary acts as facilitator and parliamentary authority for all meetings.

Management Council Membership Roster

Commissioner, Bureau of Labor Statistics

Assistant Secretary, Employment Standards Administration

Assistant Secretary, Employment and Training Administration

Assistant Secretary, Mine Safety and Health Administration

Assistant Secretary, Office of Administration and Management

Assistant Secretary, Occupational Safety and Health Administration

Assistant Secretary, Pension Welfare Benefits Administration

Assistant Secretary, Veteran's Employment and Training Service

Assistant Secretary for Policy

Director, Pension Benefit Guaranty Corporation

Director, Departmental Office of Budget

Director, Office of Small Business Programs

Director, President's Task Force for Employment of People With Disabilities

Assistant Secretary, Office of Congressional and Intergovernmental Affairs

Assistant Secretary, Office of Public Affairs

Chief Financial Officer

Chief Information Officer

Director, Women's Bureau

Director, Office Public Liaison

Assistant Secretary, Bureau of International Labor Affairs

Inspector General

Deputy Secretary of Labor

Chief Economist

Executive Secretariat

Solicitor of Labor

[FR Doc. 00-20764 Filed 8-15-00; 8:45 am]

BILLING CODE 4510-23-U